FEDERAL COMMUNICATIONS COMMISSION

47 CFR Part 54

[WC Docket No. 21-450; FCC 22-87; FR ID 164120]

Affordable Connectivity Program; Emergency Broadband Benefit Program

AGENCY: Federal Communications Commission.

ACTION: Final rule; announcement of effective date.

SUMMARY: In this document, the Federal Communications Commission (Commission) announces that the Office of Management and Budget (OMB) has approved, for a period of three years, an information collection titled Affordable Connectivity Program (ACP) Transparency Data Collection, which is associated with the rules contained in the Fourth Report and Order, FCC 22-87 (Nov. 23, 2022) (Fourth Report and Order), which was summarized in a document published on January 13, 2023. This document is consistent with the Fourth Report and Order and its summary.

DATES: The amendments to § 54.1813(b) through (d) (instruction 3), published at 88 FR 2248, January 13, 2023, and the amendments to § 54.1813(c) and (g) in this final rule, are effective August 23, 2023.

FOR FURTHER INFORMATION CONTACT: Eric Wu, Attorney Advisor, Telecommunications Access Policy Division, Wireline Competition Bureau, at (202) 418-7400 or eric.wu@fcc.gov. For additional information concerning the Paperwork Reduction Act information collection requirements contact Nicole Ongele at (202) 418-2991 or nicole.ongele@fcc.gov.

SUPPLEMENTARY INFORMATION: The Commission submitted information collection requirements for review and approval by OMB, as required by the Paperwork Reduction Act (PRA) of 1995, on June 7, 2023, which were approved by OMB on August 11, 2023. The information collection requirements are found in the Commission's Affordable Connectivity Program; Emergency Broadband Benefit Program, WC Docket No. 21-450, Fourth Report and Order, FCC 22-87 (Nov. 23, 2022) (Fourth Report and Order), which was summarized in 88 FR 2248, January 13, 2023. The OMB Control Number is 3060-1310. If you have any comments on the burden estimates listed in the following, or how the Commission can improve the collections and reduce any burdens caused thereby, please contact Nicole Ongele, Federal Communications Commission, 45 L Street NE, Washington, DC 20554. Please include the OMB Control Number, 3060-1310, in your correspondence. The Commission will also accept your comments via email at PRA@fcc.gov.

To request materials in accessible formats for people with disabilities (Braille, large print, electronic files, audio format), send an email to fcc504@fcc.gov or call the Consumer & Governmental Affairs Bureau at (202) 418-0530 (voice), (202) 418-0432 (TTY).

Synopsis

As required by the Paperwork Reduction Act of 1995 (44 U.S.C. 3507), the Commission is notifying the public that it received OMB approval on August 11, 2023, for the information collection requirements contained in 47 CFR 54.1813, published at 88 FR 2248, January 13, 2023.

Section 54.1813(g) of title 47 of the Code of Federal Regulations provides that compliance with § 54.1813(b) through (d) wouldn't be required until § 54.1813(g) is removed or contains a compliance date, which wouldn't occur until after OMB completes review pursuant to the PRA. Since OMB has completed its review of the information collection requirements, this document removes § 54.1813(g). This document further revises § 54.1813(c) to delete the reference to paragraph (g) and to add the compliance date for the ACP Transparency Data Collection.

These amendments to § 54.1813(c) and (g) are effective on the date this document is published in the Federal Register. The amendments are minor corrections, and the public was given notice in the November 2022 Fourth Report and Order that the rules would need to be amended to reflect completion of OMB review under the Paperwork Reduction Act. Additionally, the Commission separately announced the compliance date for the ACP Transparency Data Collection in a Public Notice issued on August 11, 2023. These amendments impose no immediate burdens or obligations on members of the public, and making them effective upon publication will enhance notice to the public by incorporating the compliance date sooner into the Code of Federal Regulations. There is thus good cause under 5 U.S.C. 553(d)(3) for the amendments to be effective less than 30 days after their publication.

Under 5 CFR part 1320, an agency may not conduct or sponsor a collection of information unless it displays a current, valid OMB Control Number.

Additionally, no person shall be subject to any penalty for failing to comply with a collection of information subject to the Paperwork Reduction Act that does not display a current, valid OMB Control Number. The OMB Control Number is 3060-1310.

The foregoing notification is required by the Paperwork Reduction Act of 1995, Public Law 104-13, October 1, 1995, and 44 U.S.C. 3507.

The total annual reporting burdens and costs for the respondents are as follows:

OMB Control Number: 3060-1310.

OMB Approval Date: August 11, 2023.

OMB Expiration Date: August 31, 2026.

Title: Affordable Connectivity Program (ACP) Transparency Data Collection.

Form Number: FCC Form 5651.

Type of Review: New information collection.

Respondents: Business or other for-profit.

Number of Respondents and Responses: 1,755 respondents; 1,755 responses.

Estimated Time per Response: 31 hours.

Frequency of Response: Annual reporting requirement.

Obligation to Respond: Required to obtain or retain benefits. Statutory authority for this information collection is contained in section 904 of Division N, Title IX of the Consolidated Appropriations Act, 2021, Public Law 116-260, 134 Stat. 1182, as amended by the Infrastructure Investment and Jobs Act, Public Law 117-58, section 60502(c), 135 Stat. 429, 1243 (2021) and 47 U.S.C. 1752.

Total Annual Burden: 54,405 hours.

Total Annual Cost: No cost.

Needs and Uses: On November 15, 2021, the President signed the Infrastructure Investment and Jobs Act, Public Law 117-58, 135 Stat. 429 (2021), which appropriated $14.2 billion to expand and modify the Emergency Broadband Benefit Program in the form of a new, longer-term broadband affordability program called the Affordable Connectivity Program (ACP). The Affordable Connectivity Program provides qualifying low-income households with a monthly discount of up to $30 per month (or up to $75 per month for households on qualifying Tribal Lands) for broadband services, and a one-time $100 discount on a connected device (tablet, laptop, or desktop computer) from the participating provider with a co-pay of more than $10 but less than $50.

The Infrastructure Act also directed the Commission to “issue final rules regarding the annual collection by the Commission of data relating to the price and subscription rates of each internet service offering of a participating provider under the Affordable Connectivity Program . . . to which an eligible household subscribes.” Infrastructure Act, section 60502(c)(1). On November 23, 2022, the Commission adopted a Fourth Report and Order, WC Docket No. 21-450, FCC 22-87 (Fourth Report and Order), establishing the ACP Data Collection to satisfy the statutory collection requirement. The data collection also will allow the Commission to determine the value being provided by the affordable connectivity benefit.

List of Subjects in 47 CFR Part 54

Internet, Telecommunications, Telephone.

Federal Communications Commission.
Marlene Dortch,
Secretary, Office of the Secretary.

Final Rules

For the reasons discussed in the preamble, the Federal Communications Commission amends 47 CFR part 54 as follows:

PART 54—UNIVERSAL SERVICE

1. The authority citation for part 54 continues to read as follows:

Authority: 47 U.S.C. 151, 154(i), 155, 201, 205, 214, 219, 220, 229, 254, 303(r), 403, 1004, 1302, 1601-1609, and 1752, unless otherwise noted.

2. Amend § 54.1813 by:

a. Revising paragraph (c); and

b. Removing paragraph (g).

The revision reads as follows:

§ 54.1813 Affordable Connectivity Program Transparency Data Collection.

* * * * *

(c) Timing of collection. No later than November 9, 2023, and annually thereafter, participating providers must submit to the Commission the information in paragraph (b) of this section for all plans in which an Affordable Connectivity Program household is subscribed. The information must be current as of an annual snapshot date established and announced by the Bureau.

* * * * *

[FR Doc. 2023-18081 Filed 8-22-23; 8:45 am]

BILLING CODE 6712-01-P